DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modication | Community No.
Alabama:
Jefferson (FEMA Docket No.: B-7797) | City of Birmingham (08-04-2759P) | June 20, 2008; June 27, 2008; The Birmingham News | The Honorable Larry P. Langford, Mayor, City of Birmingham, 710 North 20th Street, Birmingham, AL 35203 | July 28, 2008 | 010116
Madison (FEMA Docket No.: B-7789) | City of Huntsville (08-04-1222P) | May 9, 2008; May 16, 2008; Madison County Record | The Honorable Loretta Spencer, Mayor, City of Huntsville, P.O. Box 308, Huntsville, AL 35804 | September 15, 2008 | 010153
Tuscaloosa (FEMA Docket No.: B-7793) | City of Tuscaloosa (08-04-1080P) | June 11, 2008; June 18, 2008; The Northport Gazette | The Honorable Walter Maddox, Mayor, City of Tuscaloosa, P.O. Box 2089, Tuscaloosa, AL 35403 | October 16, 2008 | 010203
Arizona:
Mohave (FEMA Docket No.: B-7788) | City of Kingman (08-09-0713P) | May 14, 2008; May 21, 2008; Kingman Daily Miner | The Honorable Lester Byram, Mayor, City of Kingman, 310 North Fourth Street, Kingman, AZ 86401 | September 18, 2008 | 040060
Mohave (FEMA Docket No.: B-7788) | Unincorporated areas of Mohave County (08-09-0713P) | May 14, 2008; May 21, 2008; Kingman Daily Miner | The Honorable Pete Byers, Chairman, Mohave County, Board of Supervisors, 700 West Beale Street, Kingman, AZ 86401 | September 18, 2008 | 040058
Pima (FEMA Docket No.: B-7793) | City of Tucson (08-09-0001P) | June 6, 2008; June 13, 2008; The Daily Territorial | The Honorable Bob Walkup, Mayor, City of Tucson, P.O. Box 27210, Tucson, AZ 85726 | May 23, 2008 | 040076
California:
Placer (FEMA Docket No.: B-7789) | City of Lincoln (07-09-0934P) | May 21, 2008; May 28, 2008; Roseville Press-Tribune | The Honorable Primo Santini, Mayor, City of Lincoln, 640 Fifth Street, Lincoln, CA 95648 | September 25, 2008 | 060241
Placer (FEMA Docket No.: B-7789) | Unincorporated areas of Placer County (07-09-0934P) | May 21, 2008; May 28, 2008; Roseville Press-Tribune | The Honorable Jim Holmes, Chairman, Placer County, Board of Supervisors, 175 Fulweiler Avenue, Auburn, CA 95603 | September 25, 2008 | 060239
Shasta (FEMA Docket No.: B-7789) | Unincorporated areas of Shasta County (08-09-0622P) | May 21, 2008; May 28, 2008; Valley Post | The Honorable Mark Cibula, Supervisor, District Two, Shasta County, 1450 Court Street, Suite 308 B, Redding, CA 96001 | September 25, 2008 | 060358
Colorado:
Adams (FEMA Docket No.: B-7797) | City of Thornton (08-08-0377P) | June 5, 2008; June 12, 2008; Northglenn-Thornton Sentinel | The Honorable Erik Hansen, Mayor, City of Thornton, 9500 Civic Center Drive, Thornton, CO 80229 | October 10, 2008 | 080007
Douglas (FEMA Docket No.: B-7788) | Town of Castle Rock (08-08-0159P) | May 15, 2008; May 22, 2008; Douglas County News-Press | The Honorable Randy Reed, Mayor, Town of Castle Rock, 100 North Wilcox Street, Castle Rock, CO 80104 | September 19, 2008 | 080050
Routt (FEMA Docket No.: B-7793) | Unincorporated areas of Routt County (08-08-0085P) | June 8, 2008; June 15, 2008; Steamboat Pilot | The Honorable Nancy Stahoviak, Chairperson, Routt County Board of County Commissioners, P.O. Box 3598, Steamboat Springs, CO 80477 | May 30, 2008 | 080156
Routt (FEMA Docket No.: B-7793) | City of Steamboat Springs (08-08-0085P) | June 8, 2008; June 15, 2008; Steamboat Pilot | The Honorable Paul Antonucci, City Council President, City of Steamboat Springs, P.O. Box 775088, Steamboat Springs, CO 80477 | May 30, 2008 | 080159
Florida:
Orange (FEMA Docket No.: B-7793) | Unincorporated areas of Orange County (05-04-1535P) | June 5, 2008; June 12, 2008; Orlando Weekly | The Honorable Richard T. Crotty, Mayor, Orange County, 201 South RosaLind Avenue, Fifth Floor, Orlando, FL 32801 | October 10, 2008 | 120179
Seminole (FEMA Docket No.: B-7797) | City of Winter Springs (08-04-4157P) | June 18, 2008; June 25, 2008; Orlando Sentinel | The Honorable John F. Bush, Mayor, City of Winter Springs, 21 Tarpon Circle, Winter Springs, FL 32708 | October 23, 2008 | 120295
Idaho: Madison (FEMA Docket No.: B-7797) | Unincorporated areas of Madison County (08-10-0206P) | July 3, 2008; July 10, 2008; Standard Journal | The Honorable Ralph Robison, Chairman, Madison County Board of Commissioners, P.O. Box 389, Rexburg, ID 83440 | June 16, 2008 | 160217
Lake (FEMA Docket No.: B-7797) | Unincorporated areas of Lake County (08-05-1098P) | June 5, 2008; June 12, 2008; Lake County News-Sun | The Honorable Suzi Schmidt, Chair, Lake County Board, 18 North County Street, Room 1001, Waukegan, IL 60085 | October 10, 2008 | 170357
Illinois:
Lake (FEMA Docket No.: B-7797) | Village of Lake Barrington (08-05-1098P) | June 5, 2008; June 12, 2008; Lake County News-Sun | The Honorable Kevin Richardson, President, Village of Lake Barrington, 23860 Old Barrington Road, Lake Barrington, IL 60010 | October 10, 2008 | 170372
Lake (FEMA Docket No.: B-7797) | Village of North Barrington (08-05-1098P) | June 5, 2008; June 12, 2008; Lake County News-Sun | The Honorable Bruce J. Sauer, President, Village of North Barrington, 111 Old Barrington Road, North Barrington, IL 60010 | October 10, 2008 | 170383
McHenry (FEMA Docket No.: B-7793) | Unincorporated areas of McHenry County (08-05-1169P) | June 12, 2008; June 19, 2008; Northwest Herald | The Honorable Kenneth D. Koehler, Chairman, McHenry County Board, McHenry County Government Center, 2200 North Seminary Avenue, Woodstock, IL 60098 | October 17, 2008 | 170732
McHenry (FEMA Docket No.: B-7793) | City of Woodstock (08-05-1169P) | June 12, 2008; June 19, 2008; Northwest Herald | The Honorable Brian Sager, Mayor, City of Woodstock, 121 West Calhoun Street, Woodstock, IL 60098 | October 17, 2008 | 170488
Will County (FEMA Docket No.: B-7793) | Village of Frankfort (07-05-5331P) | June 12, 2008; June 19, 2008; Daily Southtown | The Honorable Jim Holland, Mayor, Village of Frankfort, 432 West Nebraska Street, Frankfort, IL 60423 | July 17, 2008 | 170701
Will County (FEMA Docket No.: B-7793) | Unincorporated areas of Will County (08-05-1175P) | June 18, 2008; June 25, 2008; Herald News | The Honorable Lawrence M. Walsh, Will County Executive, 302 North Chicago Street, Joliet, IL 60432 | October 23, 2008 | 170695
Indiana:
Allen (FEMA Docket No.: B-7793) | City of Fort Wayne (08-05-1821P) | June 13, 2008; June 20, 2008; The Journal Gazette | The Honorable Tom Henry, Mayor, City of Fort Wayne, One Main Street, Fort Wayne, IN 46802 | June 3, 2008 | 180003
Marion (FEMA Docket No.: B-1001) | City of Indianapolis (08-05-2727P) | July 8, 2008; July 15, 2008; Indianapolis Star | The Honorable Gregory A. Ballard, Mayor, City of Indianapolis, 200 East Washington Street, Indianapolis, IN 46204 | June 25, 2008 | 180159
Kansas: Sedgwick (FEMA Docket No.: B-7789) | City of Goddard (08-07-0155P) | May 29, 2008; June 6, 2008; Wichita Eagle | The Honorable Marcey Gregory, Mayor, City of Goddard, P.O. Box 667, Goddard, KS 67052 | May 21, 2008 | 200500
Maryland: Washington (FEMA Docket No.: B-1001) | Unincorporated areas of Washington County (08-03-0660P) | June 4, 2008; June 11, 2008; The Herald-Mail | The Honorable John Barr, President, Washington County Commissioners, 100 West Washington Street, Room 226, Hagerstown, MD 21740 | October 9, 2008 | 240070
Minnesota:
Anoka (FEMA Docket No.: B-7797) | City of Blaine (08-05-1446P) | June 6, 2008; June 13, 2008; Blaine-Spring Lake Park Life | The Honorable Thomas Ryan, Mayor, City of Blaine, 10801 Town Square Drive Northeast, Blaine, MN 55449 | October 13, 2008 | 270007
St. Louis (FEMA Docket No.: B-7793) | City of Duluth (07-05-3554P) | June 12, 2008; June 19, 2008; Duluth News Tribune | The Honorable Don Ness, Mayor, City of Duluth, 411 West First Street, Duluth, MN 55802 | October 17, 2008 | 270421
Missouri:
St. Louis (FEMA Docket No.: B-7788) | Town of Huntleigh (08-07-0367P) | May 17, 2008; May 24, 2008; The Countian | The Honorable Paul Von Gontard, Mayor, Town of Huntleigh, One City Center, Suite 1500, 2845 South Lindbergh Boulevard, St. Louis, MO 63101 | September 19, 2008 | 290359
St. Louis (FEMA Docket No.: B-7788) | City of Ladue (08-07-0367P) | May 17, 2008; May 24, 2008; The Countian | The Honorable Irene Holmes, Mayor, City of Ladue, 9345 Clayton Road, St. Louis, MO 63124 | September 19, 2008 | 290363
Montana: Flathead (FEMA Docket No.: B-7797) | Unincorporated areas of Flathead County (08-08-0430P) | June 13, 2008; June 20, 2008; Daily Inter Lake | The Honorable Gary D. Hall, Chairman, Flathead County Board of Commissioners, 800 South Main Street, Kalispell, MT 59901 | June 2, 2008 | 300023
Nevada: Clark (FEMA Docket No.: B-7789) | City of Henderson (08-09-0980X) | May 22, 2008; May 29, 2008; Las Vegas Review-Journal | The Honorable James B. Gibson, Mayor, City of Henderson, 240 South Water Street, Henderson, NV 89015 | September 17, 2008 | 320005
Pennsylvania: Dauphin (FEMA Docket No.: B-7793) | Township of West Hanover (08-03-0651P) | June 12, 2008; June 19, 2008; The Patriot News | The Honorable Larry Hartman, Chair, Board of Supervisors, West Hanover Township, 7171 Allentown Boulevard, Harrisburg, PA 17112 | October 17, 2008 | 421600
South Carolina: Jasper (FEMA Docket No.: B-7788) | Town of Hardeeville (08-04-3462P) | May 9, 2008; May 16, 2008; Beaufort Gazette | The Honorable A. Brooks Willis, Mayor, Town of Hardeeville, 205 East Main Street, Hardeeville, SC 29927 | September 15, 2008 | 450113
Tennessee:
Coffee (FEMA Docket No.: B-7797) | City of Tullahoma (07-04-5627P) | May 14, 2008; May 21, 2008; The Tullahoma News | The Honorable Troy Bisby, Mayor, City of Tullahoma, 201 West Grundy Street, Tullahoma, TN 37388 | September 18, 2008 | 470036
Davidson (FEMA Docket No.: B-7788) | Metropolitan Government of Nashville and Davidson County (08-04-0256P) | May 12, 2008; May 19, 2008; The Tennessean | The Honorable Karl Dean, Mayor, Metropolitan Government of Nashville and Davidson County, 100 Metropolitan Courthouse, Nashville, TN 37201 | September 15, 2008 | 470040
Wilson (FEMA Docket No.: B-7797) | City of Lebanon (08-04-1439P) | May 28, 2008; June 4, 2008; The Wilson Post | The Honorable Don Cox, Mayor, City of Lebanon, 200 North Castle Heights Avenue, Suite 100, Lebanon, TN 37087 | May 16, 2008 | 270208
Texas:
Bexar (FEMA Docket No.: B-7788) | Unincorporated areas of Bexar County (08-06-0794P) | May 22, 2008; May 29, 2008; San Antonio Express-News | The Honorable Nelson W. Wolff, Bexar County Judge, 100 Dolorosa Street, Suite 120, San Antonio, TX 78205 | September 19, 2008 | 480035
Brazos (FEMA Docket No.: B-7789) | Unincorporated areas of Brazos County (07-06-2185P) | May 14, 2008; May 21, 2008; Bryan College Station Eagle | The Honorable Amanda S. Matzke, Brazos County Judge, 300 East 26th Street, Suite 211, Bryan, TX 77803 | September 16, 2008 | 481195
Brazos (FEMA Docket No.: B-7789) | City of Bryan (07-06-2185P) | May 14, 2008; May 21, 2008; Bryan College Station Eagle | The Honorable D. Mark Conlee, Mayor, City of Bryan, 300 South Texas Avenue, Bryan, TX 77803 | September 16, 2008 | 480082
Ellis (FEMA Docket No.: B-7797) | City of Waxahachie (08-06-0662P) | May 28, 2008; June 4, 2008; Waxahachie Daily Light | The Honorable Joe Jenkins, Mayor, City of Waxahachie, P.O. Box 757, Waxahachie, TX 75165 | October 2, 2008 | 480211
Gillespie (FEMA Docket No.: B-7789) | Unincorporated areas of Gillespie County (08-06-0677P) | May 28, 2008; June 4, 2008; Fredericksburg Standard-Radio Post | The Honorable Mark Stroeher, Gillespie County Judge, 101 West Main Street, Fredericksburg, TX 78624 | October 3, 2008 | 480696
Harris (FEMA Docket No.: B-1001) | Unincorporated areas of Harris County (08-06-0795P) | July 2, 2008; July 9, 2008; Houston Chronicle | The Honorable Ed Emmett, Harris County Judge, 1001 Preston Street, Suite 911, Houston, TX 77002 | June 25, 2008 | 480287
Tarrant (FEMA Docket No.: B-7797) | City of Fort Worth (07-06-2613P) | May 30, 2008; June 6, 2008; Fort Worth Star-Telegram | The Honorable Michael J. Moncrief, Mayor, City of Fort Worth, 1000 Throckmorton Street, Fort Worth, TX 76102 | September 29, 2008 | 480596
Tarrant (FEMA Docket No.: B-1001) | City of Grapevine (07-06-0439P) | May 30, 2008; June 6, 2008; Grapevine Courier | The Honorable William D. Tate, Mayor, City of Grapevine, P.O. Box 95104, Grapevine, TX 76099 | September 4, 2008 | 480598
Williamson (FEMA Docket No.: B-7789) | City of Cedar Park (08-06-1336P) | May 29, 2008; June 5, 2008; Round Rock Leader | The Honorable Bob Lemon, Mayor, City of Cedar Park, 600 North Bell Boulevard, Cedar Park, TX 78613 | May 16, 2008 | 481282
Williamson (FEMA Docket No.: B-7788) | City of Round Rock (07-06-2411P) | May 13, 2008; May 20, 2008; Round Rock Leader | The Honorable Nyle Maxwell, Mayor, City of Round Rock, 221 East Main Street, Round Rock, TX 78664 | September 17, 2008 | 481048
Wisconsin:
Kenosha (FEMA Docket No.: B-7789) | Village of Pleasant Prairie (08-05-2135P) | May 30, 2008; June 6, 2008; Kenosha News | The Honorable John Steinbrink, Village President, Village of Pleasant Prairie, 8640 88th Avenue, Pleasant Prairie, WI 53158 | May 16, 2008 | 550613
Ozaukee (FEMA Docket No.: B-7797) | Unincorporated areas of Ozaukee County (08-05-1362P) | June 5, 2008; June 12, 2008; Ozaukee Press | The Honorable Robert Brooks, Chairman, Ozaukee County Board, P.O. Box 994, Port Washington, WI 53074-0994 | October 10, 2008 | 550310
Washington (FEMA Docket No.: B-7788) | Village of Germantown (08-05-2438P) | May 6, 2008; May 13, 2008; West Bend Daily News | The Honorable Thomas Kempinski, President, Village of Germantown, W169 N11504 Biscayne Drive, Germantown, WI 53022 | September 10, 2008 | 550472

(Catalog of Federal Domestic Assistance No. 97.022, “Flood Insurance.”)

Dated: November 5, 2008.
Michael K. Buckley,
Acting Assistant Administrator, Mitigation Directorate, Department of Homeland Security, Federal Emergency Management Agency.

[FR Doc. E8-27037 Filed 11-13-08; 8:45 am]

BILLING CODE 9110-12-P